DEPARTMENT OF COMMERCE

United States Patent and Trademark Office

[Docket No.: PTO-P-2009-0041]

Patent Cooperation Treaty Task Force; Notice of Public Meeting

AGENCY: United States Patent and Trademark Office, Commerce.

ACTION: Notice of public meeting; request for comments.

SUMMARY: This notice announces a public meeting to solicit public opinions on improvement of the USPTO's efficiency, operation and utilization of the Patent Cooperation Treaty (PCT).

DATES AND TIMES: The public meeting will be held on Wednesday, January 13, 2010, from 2 p.m. to 5 p.m. Persons interested in attending the meeting must register by January 8, 2010.

Written comments must be submitted by January 8, 2009.

Location: The public meeting will be held in the South Auditorium of Madison West, 600 Dulany Street, Alexandria, VA 22314.

ADDRESSES: Written comments should be sent by electronic mail message over the Internet addressed to IP.Policy@uspto.gov. Comments may also be submitted by mail addressed to: Mail Stop Office of International Relations, USPTO, P.O. Box 1450, Alexandria, VA 22313-1450, marked to the attention of Karin Ferriter. Although comments may be submitted by mail, submission via e-mail to the above address is preferable.

The written comments will be available for public inspection on the USPTO Web site and by appointment at the Executive Library, located in Madison West, Tenth Floor, 600 Dulany Street, Alexandria, Virginia. Contact: Elizabeth Shaw at elizabeth.shaw2@uspto.gov or 571-272-8494.

Because comments will be made available for public inspection, information that is not desired to be made public, such as an address or phone number, should not be included.

For Registration to Attend and/or to Give a Presentation in the Meeting: If you wish to attend the public meeting and/or make an oral presentation at the meeting, you must register by e-mail (see ADDRESSES) by close of business on Friday, January 8, 2010. When registering, you must provide the following information: (1) Your name, title, and, if applicable, company or organization, address, phone number, and e-mail address and (2) if you wish to make a presentation, the specific topic or issue to be addressed (e.g., suggestions to improve the quality of an International Search Report) and the approximate desired length of your presentation.

There is no fee to register for the public meeting and registration will be on a first-come, first-served basis. Early registration is recommended because seating is limited. Registration on the day of the public meeting will be permitted on a space-available basis beginning at 1 p.m. on Wednesday, January 13, 2010.

We will do our best to accommodate all persons who wish to make a presentation at the meeting. After reviewing the list of speakers, we will contact each speaker prior to the meeting with the amount of time available and the approximate time the speaker's presentation is scheduled to begin. Speakers must then send the final electronic copies of their presentations in Microsoft PowerPoint, Microsoft Word, or Adobe Portable Document Format (PDF) to IP.Policy@uspto.gov by Monday, January 11, 2010 so that the presentation can be displayed in the Auditorium.

If you need special accommodations due to a disability, please inform the contact person (see FOR FURTHER INFORMATION CONTACT) by Friday January 8, 2010.

FOR FURTHER INFORMATION CONTACT: Karin L. Ferriter (571) 272-9300, Office of Intellectual Property Policy and Enforcement, directly by phone, by e-mail to Karin.Ferriter@uspto.gov, or by mail addressed to: Mail Stop International Relations, U.S. Patent and Trademark Office, P.O. Box 1450, Alexandria, Virginia 22313-1450.

SUPPLEMENTARY INFORMATION: The United States Patent and Trademark Office (USPTO) is establishing a PCT Task Force to consider the perspectives of interested parties concerned with improving the USPTO's activities as a receiving Office, an International Searching Authority (ISA), and an International Preliminary Examination Authority (IPEA), as well as of the PCT System as a whole. To support the operation of the Task Force, the USPTO will be holding a public meeting and inviting public comments. Further meetings may be announced as the Task Force develops its work.

The number of patent applications filed in the USPTO and other Offices has increased significantly over the last decade. As worldwide patent protection is increasingly requested, Patent Offices are struggling under the burden of this increasing workload. With 142 members, the PCT offers a comprehensive framework with widespread acceptance that can be used to address this challenge. To build upon this framework, the USPTO is considering how PCT applications could be included in worksharing efforts, and other process improvements such as allowing submission of prior art by applicants and third parties to further improve PCT processing.

This notice is to inform users of the PCT and others of this opportunity to help the USPTO in its strategy to improve efficiencies and optimize the usefulness of the PCT system.

The World Intellectual Property Organization (WIPO) recently completed a PCT user survey. The results of this survey are posted here: http://www.wipo.int/export/sites/www/pct/en/activity/pct_survey_2009.pdf. The survey respondents indicate that the PCT system is functioning generally well, but that there is room for improvement in the USPTO, as well as other Offices. Participants may wish to provide more detailed information regarding matters addressed in the survey, or raise new matters such as those items listed in the questions below. Comments upon one or more of the following would be helpful:

1. Please identify overall changes you recommend to the PCT system.

2. Please explain why you use the PCT system, as opposed to direct foreign filing via the Paris Convention. What benefits are applicants seeking by the use of the PCT system, in addition to the longer time to decide where to enter the national stage?

3. The USPTO has been contracting out the international search of international applications that designate the USPTO as the International Searching Authority, so as to help the USPTO improve the timeliness of the international search. From the applicant's viewpoint, please identify the advantages and disadvantages from this contracting out of the international search.

4. In addition, please explain whether applicants have concerns with the USPTO's use of contractors for the international search of PCT applications.

5. Please explain whether you support including PCT search and examination results in worksharing mechanisms, such as the Patent Prosecution Highway (PPH).

6. Where the international search report and written opinion of the International Searching Authority are at least partially negative, please explain whether you would expect to request international preliminary examination under Chapter II of the PCT more often in order to get PPH benefit at the national phase?

7. Please explain whether you believe the USPTO should encourage early national stage entry when designated as an ISA or IPEA, and implement a system that combines the international and national phase.

8. Please identify any changes you recommend to improve the quality of the work produced under the PCT system.

9. Please explain whether delaying the issuance of the International Search Report until after publication of the international application has any significant impact on your use of the PCT?

10. Please explain whether you believe that the PCT would benefit from a third-party observation system (including submission of prior art) and/or more efficient means for applicant-submitted prior art.

11. Please explain your primary reasons for choosing an ISA.

12. Please explain how the USPTO could improve its processing as a receiving Office.

13. Please explain how the USPTO could improve its processing as a designated/elected Office.

The USPTO plans to make the meeting available via Web cast. Web cast information will be available on the USPTO's Internet Web site before the roundtable. The written comments and list of the meeting participants and their associations will be posted on the USPTO's Internet Web site (http://www.uspto.gov).

Dated: December 2, 2009.
David J. Kappos,
Under Secretary of Commerce for Intellectual Property and Director of the United States Patent and Trademark Office.

[FR Doc. E9-29329 Filed 12-8-09; 8:45 am]

BILLING CODE 3510-16-P